CUMULATIVE LIST OF PUBLIC LAWS

This is the cumulative list of public laws for the 107th Congress, First Session. Other cumulative lists (1993-2001) are available online at http://www.nara.gov/fedreg/plawcurr.html. Comments may be addressed to the Director, Office of the Federal Register, Washington, DC 20408 or send e-mail to info@nara.fedreg.gov.

The text of laws may be ordered in individual pamphlet form (referred to as “slip laws”) from the Superintendent of Documents, U.S. Government Printing Office, Washington, DC 20402 (phone, 202-512-2470). The text will also be made available on the Internet from GPO Access at http://www.acess.gpo.gov/nara/nara005.html. Some laws may not yet be available online or for purchase.

Public Law | Title | Approved | 115 Stat.
107-1 | Recognizing the 90th birthday of Ronald Reagan | Feb. 15, 2001 | 3
107-2 | To designate the United States courthouse located at 1 Courthouse Way in Boston, Massachusetts, as the “John Joseph Moakley United States Courthouse” | Mar. 13, 2001 | 4
107-3 | Affecting the representation of the majority and minority membership of the Senate Members of the Joint Economic Committee | Mar. 13, 2001 | 5
107-4 | Providing for the appointment of Walter E. Massey as a citizen regent of the Board of Regents of the Smithsonian Institution | Mar. 16, 2001 | 6
107-5 | Providing for congressional disapproval of the rule submitted by the Department of Labor under chapter 8 of title 5, United States Code, relating to ergonomics | Mar. 20, 2001 | 7
107-6 | To designate the facility of the United States Postal Service located at 620 Jacaranda Street in Lanai City, Hawaii, as the “Goro Hokama Post Office Building” | Apr. 12, 2001 | 8
107-7 | To designate the facility of the United States Postal Service located at 2305 Minton Road in West Melbourne, Florida, as the “Ronald W. Reagan Post Office of West Melbourne, Florida” | Apr. 12, 2001 | 9
107-8 | To extend for 11 additional months the period for which chapter 12 of title 11 of the United States Code is reenacted | May 11, 2001 | 10
107-9 | Animal Disease Risk Assessment, Prevention, and Control Act of 2001 | May 24, 2001 | 11
107-10 | Concerning the participation of Taiwan in the World Health Organization | May 28, 2001 | 17
107-11 | To expedite the construction of the World War II memorial in the District of Columbia | May 28, 2001 | 19
107-12 | Public Safety Officer Medal of Valor Act of 2001 | May 30, 2001 | 20
107-13 | To authorize the Secretary of the Interior and the Secretary of Agriculture to use funds appropriated for wildland fire management in the Department of the Interior and Related Agencies Appropriations Act, 2001, to reimburse the United States Fish and Wildlife Service and the National Marine Fisheries Service to facilitate the interagency cooperation required under the Endangered Species Act of 1973 in connection with wildland fire management | June 3, 2001 | 24
107-14 | Veterans' Survivor Benefits Improvements Act of 2001 | June 5, 2001 | 25
107-15 | Fallen Hero Survivor Benefit Fairness Act of 2001 | June 5, 2001 | 37
107-16 | Economic Growth and Tax Relief Reconciliation Act of 2001 | June 7, 2001 | 38
107-17 | To extend for 4 additional months the period for which chapter 12 of title 11 of the United States Code is reenacted | June 26, 2001 | 151
107-18 | To clarify the authority of the Department of Housing and Urban Development with respect to the use of fees during fiscal year 2001 for the manufactured housing program | July 5, 2001 | 152
107-19 | To authorize funding for the National 4-H Program Centennial Initiative | July 10, 2001 | 153
107-20 | Supplemental Appropriations Act, 2001 | July 24, 2001 | 155
107-21 | To honor Paul D. Coverdell | July 26, 2001 | 194
107-22 | To amend the Internal Revenue Code of 1986 to rename the education individual retirement accounts as the Coverdell education savings accounts | July 26, 2001 | 196
107-23 | To designate the Federal building located at 6230 Van Nuys Boulevard in Van Nuys, California, as the “James C. Corman Federal Building” | Aug. 3, 2001 | 198
107-24 | ILSA Extension Act of 2001 | Aug. 3, 2001 | 199
107-25 | To respond to the continuing economic crisis adversely affecting American agricultural producers | Aug. 13, 2001 | 201
107-26 | To reauthorize the Tropical Forest Conservation Act of 1998 through fiscal year 2004, and for other purposes | Aug. 17, 2001 | 206
107-27 | Federal Firefighters Retirement Age Fairness Act | Aug. 20, 2001 | 207
107-28 | To direct the Secretary of the Interior to convey a former Bureau of Land Management administrative site to the city of Carson City, Nevada, for use as a senior center | Aug. 20, 2001 | 208
107-29 | To designate the facility of the United States Postal Service located at 5927 Southwest 70th Street in Miami, Florida, as the “Marjory Williams Scrivens Post Office” | Aug. 20, 2001 | 209
107-30 | To provide further protections for the watershed of the Little Sandy River as part of the Bull Run Watershed Management Unit, Oregon, and for other purposes | Aug. 20, 2001 | 210
107-31 | To designate the Federal building and United States courthouse located at 504 West Hamilton Street in Allentown, Pennsylvania, as the “Edward N. Cahn Federal Building and United States Courthouse” | Aug. 20, 2001 | 213
107-32 | To designate the facility of the United States Postal Service located at 1030 South Church Street in Asheboro, North Carolina, as the “W. Joe Trogdon Post Office Building” | Aug. 20, 2001 | 214
107-33 | To designate the United States courthouse located at 40 Centre Street in New York, New York, as the “Thurgood Marshall United States Courthouse” | Aug. 20, 2001 | 215
107-34 | To designate the facility of the United States Postal Service located at 113 South Main Street in Sylvania, Georgia, as the “G. Elliot Hagan Post Office Building” | Aug. 20, 2001 | 216
107-35 | To designate the facility of the United States Postal Service located at 419 Rutherford Avenue, N.E., in Roanoke, Virginia, as the “M. Caldwell Butler Post Office Building” | Aug. 20, 2001 | 217
107-36 | To designate the facility of the United States Postal Service located at 2719 South Webster Street in Kokomo, Indiana, as the “Elwood Haynes ‘Bud’ Hillis Post Office Building” | Aug. 20, 2001 | 218
107-37 | To provide for the expedited payment of certain benefits for a public safety officer who was killed or suffered a catastrophic injury as a direct and proximate result of a personal injury sustained in the line of duty in connection with the terrorist attacks of September 11, 2001 | Sept. 18, 2001 | 219
107-38 | 2001 Emergency Supplemental Appropriations Act for Recovery from and Response to Terrorist Attacks on the United States | Sept. 18, 2001 | 220
107-39 | Expressing the sense of the Senate and House of Representatives regarding the terrorist attacks launched against the United States on September 11, 2001 | Sept. 18, 2001 | 222
107-40 | Authorization for Use of Military Force | Sept. 18, 2001 | 224
107-41 | To establish a commission for the purpose of encouraging and providing for the commemoration of the 50th anniversary of the Supreme Court decision in Brown v. Board of Education | Sept. 18, 2001 | 226
107-42 | Air Transportation Safety and System Stabilization Act | Sept. 22, 2001 | 230
107-43 | United States-Jordan Free Trade Area Implementation Act | Sept. 28, 2001 | 243
107-44 | Making continuing appropriations for the fiscal year 2002, and for other purposes | Sept. 28, 2001 | 253
107-45 | To amend the Immigration and Nationality Act to provide permanent authority for the admission of “S” visa nonimmigrants | Oct. 1, 2001 | 258
107-46 | To amend the Admiral James W. Nance and Meg Donovan Foreign Relations Authorization Act, Fiscal Years 2000 and 2001, to adjust a condition on the payment of arrearages to the United Nations that sets the maximum share of any United Nations peacekeeping operation's budget that may be assessed of any country | Oct. 5, 2001 | 259
107-47 | Defense Production Act Amendments of 2001 | Oct. 5, 2001 | 260
107-48 | Making further continuing appropriations for the fiscal year 2002, and for other purposes | Oct. 12, 2001 | 261
107-49 | To designate the Federal building and United States courthouse located at 121 West Spring Street in New Albany, Indiana, as the “Lee H. Hamilton Federal Building and United States Courthouse” | Oct. 15, 2001 | 262
107-50 | Small Business Technology Transfer Program Reauthorization Act of 2001 | Oct. 15, 2001 | 263
107-51 | Memorializing fallen firefighters by lowering the American flag to half-staff in honor of the National Fallen Firefighters Memorial Service in Emmitsburg, Maryland | Oct. 16, 2001 | 267
107-52 | Approving the extension of nondiscriminatory treatment with respect to the products of the Socialist Republic of Vietnam | Oct. 16, 2001 | 268
107-53 | Making further continuing appropriations for the fiscal year 2002, and for other purposes | Oct. 22, 2001 | 269
107-54 | Providing for the reappointment of Anne d'Harnoncourt as citizen regent of the Board of Regents of the Smithsonian Institution | Oct. 24, 2001 | 270
107-55 | Providing for the appointment of Roger W. Sant as citizen regent of the Board of Regents of the Smithsonian Institution | Oct. 24, 2001 | 271
107-56 | Uniting and Strengthening America by Providing Appropriate Tools Required to Intercept and Obstruct Terrorism (USA PATRIOT ACT) Act of 2001 | Oct. 26, 2001 | 272
107-57 | To authorize the President to exercise waivers of foreign assistance restrictions with respect to Pakistan through September 30, 2003, and for other purposes | Oct. 27, 2001 | 403
107-58 | Making further continuing appropriations for the fiscal year 2002, and for other purposes | Oct. 31, 2001 | 406
107-59 | Great Falls Historic District Study Act of 2001 | Nov. 5, 2001 | 407
107-60 | William Howard Taft National Historic Site Boundary Adjustment Act of 2001 | Nov. 5, 2001 | 408
107-61 | To authorize the Government of the Czech Republic to establish a memorial to honor Tomas G. Masaryk in the District of Columbia | Nov. 5, 2001 | 410
107-62 | To authorize the Adams Memorial Foundation to establish a commemorative work on Federal land in the District of Columbia and its environs to honor former President John Adams and his legacy | Nov. 5, 2001 | 411
107-63 | Department of the Interior and Related Agencies Appropriations Act, 2002 | Nov. 5, 2001 | 414
107-64 | Military Construction Appropriations Act, 2002 | Nov. 5, 2001 | 474
107-65 | Eightmile River Wild and Scenic River Study Act of 2001 | Nov. 6, 2001 | 484
107-66 | Energy and Water Development Appropriations Act, 2002 | Nov. 12, 2001 | 486
107-67 | Treasury and General Government Appropriations Act, 2002 | Nov. 12, 2001 | 514
107-68 | Making appropriations for the Legislative Branch for the fiscal year ending September 30, 2002, and for other purposes | Nov. 12, 2001 | 560
107-69 | To amend the Reclamation Recreation Management Act of 1992 in order to provide for the security of dams, facilities, and resources under the jurisdiction of the Bureau of Reclamation | Nov. 12, 2001 | 593
107-70 | Making further continuing appropriations for the fiscal year 2002, and for other purposes | Nov. 17, 2001 | 596
107-71 | Aviation and Transportation Security Act | Nov. 19, 2001 | 597
107-72 | Need-Based Educational Aid Act of 2001 | Nov. 20, 2001 | 648
107-73 | Departments of Veterans Affairs and Housing and Urban Development, and Independent Agencies Appropriations Act, 2002 | Nov. 26, 2001 | 651
107-74 | To prevent the elimination of certain reports | Nov. 28, 2001 | 701
107-75 | Internet Tax Nondiscrimination Act | Nov. 28, 2001 | 703
107-76 | Agriculture, Rural Development, Food and Drug Administration, and Related Agencies Appropriations Act, 2002 | Nov. 28, 2001 | 704
107-77 | Departments of Commerce, Justice, and State, the Judiciary, and Related Agencies Appropriations Act, 2002 | Nov. 28, 2001 | 748
107-78 | To provide authority to the Federal Power Marketing Administration to reduce vandalism and destruction of property, and for other purposes | Nov. 28, 2001 | 808
107-79 | Making further continuing appropriations for the fiscal year 2002, and for other purposes | Dec. 7, 2001 | 809
107-80 | To designate the Federal building and United States courthouse located at 550 West Fort Street in Boise, Idaho, as the “James A. McClure Federal Building and United States Courthouse” | Dec. 12, 2001 | 810
107-81 | Afghan Women and Children Relief Act of 2001 | Dec. 12, 2001 | 811
107-82 | To extend the authorization of the Drug-Free Communities Support Program for an additional 5 years, to authorize a National Community Antidrug Coalition Institute, and for other purposes | Dec. 14, 2001 | 814
107-83 | Making further continuing appropriations for the fiscal year 2002, and for other purposes | Dec. 15, 2001 | 822
107-84 | Muscular Dystrophy Community Assistance, Research and Education Amendments of 2001 | Dec. 18, 2001 | 823
107-85 | To designate the facility of the United States Postal Service located at 4270 John Marr Drive in Annandale, Virginia, as the “Stan Parris Post Office Building” | Dec. 18, 2001 | 831
107-86 | To designate the facility of the United States Postal Service located at 2853 Candler Road in Decatur, Georgia, as the “Earl T. Shinhoster Post Office” | Dec. 18, 2001 | 832
107-87 | Department of Transportation and Related Agencies Appropriations Act, 2002 | Dec. 18, 2001 | 833
107-88 | To redesignate the facility of the United States Postal Service located at 5472 Crenshaw Boulevard in Los Angeles, California, as the “Congressman Julian C. Dixon Post Office” | Dec. 18, 2001 | 875
107-89 | Amending title 36, United States Code, to designate September 11 as Patriot Day | Dec. 18, 2001 | 876
107-90 | Railroad Retirement and Survivors' Improvement Act of 2001 | Dec. 21, 2001 | 878
107-91 | Detroit River International Wildlife Refuge Establishment Act | Dec. 21, 2001 | 894
107-92 | To designate the facility of the United States Postal Services located at 8588 Richmond Highway in Alexandria, Virginia, as the “Herb Harris Post Office Building” | Dec. 21, 2001 | 898
107-93 | To amend the charter of Southeastern University of the District of Columbia | Dec. 21, 2001 | 899
107-94 | Veterans' Compensation Rate Amendments of 2001 | Dec. 21, 2001 | 900
107-95 | Homeless Veterans Comprehensive Assistance Act of 2001 | Dec. 21, 2001 | 903
107-96 | District of Columbia Appropriations Act, 2002 | Dec. 21, 2001 | 923
107-97 | Making further continuing appropriations for the fiscal year 2002, and for other purposes | Dec. 21, 2001 | 960
107-98 | Appointing the day for the convening of the second session of the One Hundred Seventh Congress | Dec. 21, 2001 | 961
107-99 | Zimbabwe Democracy and Economic Recovery Act of 2001 | Dec. 21, 2001 | 962
107-100 | Small Business Investment Company Amendments Act of 2001 | Dec. 21, 2001 | 966
107-101 | Providing for the appointment of Patricia Q. Stonesifer as a citizen regent of the Board of Regents of the Smithsonian Institution | Dec. 21, 2001 | 973
107-102 | Regarding the use of the trust land and resources of the Confederated Tribes of the Warm Springs Reservation of Oregon | Dec. 27, 2001 | 974
107-103 | Veterans Education and Benefits Expansion Act of 2001 | Dec. 27, 2001 | 976
107-104 | To amend chapter 90 of title 5, United States Code, relating to Federal long-term care insurance | Dec. 27, 2001 | 1001
107-105 | Administrative Simplification Compliance Act | Dec. 27, 2001 | 1003
107-106 | National Museum of African American History and Culture Plan for Action Presidential Commission Act of 2001 | Dec. 28, 2001 | 1009
107-107 | National Defense Authorization Act for Fiscal Year 2002 | Dec. 28, 2001 | 1012
107-108 | Intelligence Authorization Act for Fiscal Year 2002 | Dec. 28, 2001 | 1394
107-109 | Best Pharmaceuticals for Children Act | Jan. 4, 2002 | 1408
107-110 | No Child Left Behind Act of 2001 | Jan. 8, 2002 | 1425
107-111 | African Elephant Conservation Reauthorization Act of 2001 | Jan. 8, 2002 | 2095
107-112 | Rhinoceros and Tiger Conservation Reauthorization Act of 2001 | Jan. 8, 2002 | 2097
107-113 | District of Columbia Police Coordination Amendment Act of 2001 | Jan. 8, 2002 | 2099
107-114 | District of Columbia Family Court Act of 2001 | Jan. 8, 2002 | 2100
107-115 | Foreign Operations, Export Financing, and Related Programs Appropriations Act, 2002 | Jan. 10, 2002 | 2118
107-116 | Departments of Labor, Health and Human Services, and Education, and Related Agencies Appropriations Act, 2002 | Jan. 10, 2002 | 2177
107-117 | Department of Defense and Emergency Supplemental Appropriations for Recovery from and Response to Terrorist Attacks on the United States Act, 2002 | Jan. 10, 2002 | 2230
107-118 | Small Business Liability Relief and Brownfields Revitalization Act | Jan. 11, 2002 | 2356
107-119 | Office of Government Ethics Authorization Act of 2001 | Jan. 15, 2002 | 2382
107-120 | To provide for the installation of a plaque to honor Dr. James Harvey Early in the Williamsburg, Kentucky Post Office Building | Jan. 15, 2002 | 2383
107-121 | Native American Breast and Cervical Cancer Treatment Technical Amendment Act of 2001 | Jan. 15, 2002 | 2384
107-122 | Higher Education Relief Opportunities for Students Act of 2001 | Jan. 15, 2002 | 2386
107-123 | Investor and Capital Markets Fee Relief Act | Jan. 16, 2002 | 2390
107-124 | To provide for work authorization for nonimmigrant spouses of treaty traders and treaty investors | Jan. 16, 2002 | 2402
107-125 | To provide for work authorization for nonimmigrant spouses of intracompany transferees, and to reduce the period of time during which certain intracompany transferees have to be continuously employed before applying for admission to the United States | Jan. 16, 2002 | 2403
107-126 | To extend for 4 years, through December 31, 2005, the authority to redact financial disclosure statements of judicial employees and judicial officers | Jan. 16, 2002 | 2404
107-127 | General Shelton Congressional Gold Medal Act | Jan. 16, 2002 | 2405
107-128 | Basic Pilot Extension Act of 2001 | Jan. 16, 2002 | 2407
107-129 | To designate the facility of the United States Postal Service located at 65 North Main Street in Cranbury, New Jersey, as the “Todd Beamer Post Office Building” | Jan. 16, 2002 | 2408
107-130 | To designate the Richard J. Guadagno Headquarters and Visitors Center at Humboldt Bay National Wildlife Refuge, California | Jan. 16, 2002 | 2409
107-131 | To amend the Internal Revenue Code of 1986 to simplify the reporting requirements relating to higher education tuition and related expenses | Jan. 16, 2002 | 2410
107-132 | To designate the National Foreign Affairs Training Center as the George P. Shultz National Foreign Affairs Training Center | Jan. 16, 2002 | 2412
107-133 | Promoting Safe and Stable Families Amendments of 2001 | Jan. 17, 2002 | 2413
107-134 | Victims of Terrorism Tax Relief Act of 2001 | Jan. 23, 2002 | 2427
107-135 | Department of Veterans Affairs Health Care Programs Enhancement Act of 2001 | Jan. 23, 2002 | 2446
107-136 | To name the national cemetery in Saratoga, New York, as the Gerald B.H. Solomon Saratoga National Cemetery, and for other purposes | Jan. 24, 2002 | 2466